NUCLEAR REGULATORY COMMISSION

[License Number 42-26928-01]

Environmental Assessment, Finding of No Significant Impact, and Notice of Opportunity for a Hearing

The U.S. Nuclear Regulatory Commission is considering authorizing Core Laboratories, Inc., an exemption to use radioactive markers containing quantities exceeding the limits listed in 10 CFR 30.71 as pipe collar markers in oil and gas wells.

Environmental Assessment

Identification of the Proposed Action

Core Laboratories, Inc. is licensed by the NRC to conduct well logging operations. They have requested, in letters dated July 14, 1997 and February 4, 1998, that the United States Nuclear Regulatory Commission (NRC) grant them an exemption from 10 CFR 39.47 to use radioactive markers containing quantities exceeding the limits listed in 10 CFR 30.71 as pipe collar markers in oil and gas wells. 10 CFR 39.47 specifies that licensees may only use radioactive markers if the individual markers contain quantities not exceeding the quantities listed in 10 CFR 30.71. Core Laboratories requested authorization to use iridium-192, scandium-46, antimony-124, cesium-137, and cobalt-60 markers with activities up to 50 microcuries, as pipe collar markers. 10 CFR 30.71 limits iridium-192, scandium-46, antimony-124, and cesium-137 to 10 microcuries and cobalt-60 to 1 microcurie.

The markers Core Laboratories requested authorization to use are either installed directly into the collars or are placed onto the collar threads and secured between the pipe casing joints and, therefore, are not easily removable. Once installed in a well, the casing and collars are cemented into place. The Supplementary Information section of the proposed rulemaking concerning radioactive markers notes that the reason limiting the activity to those specified in 10 CFR 30.71 was necessary, is “because it is impracticable for the licensee that installs the radioactive marker to recover the marker when the well owner or operator removes the casings from the well at a later date.” In its correspondence to NRC, Core Laboratories describes agreements it will have with the well owner/operator, and procedures it will follow to ensure the markers are recovered should the casing and collars be removed prior to a specified date.

Need for the Proposed Action

The exemption is needed so that Core Laboratories, Inc. can carry out its business of logging wells in the oil and gas industry. The higher activity markers allow for more accurate pipe collar location measurements when logging certain oil and gas wells.

Environmental Impacts of the Proposed Action

There will be no significant environmental impact from the proposed action due to the fact that no material is being released into the environment and all of the material is wholly contained within the pipe collars and will be recovered should the casing and collars be removed from the wells.

During operations, the radiation dose will not be significantly greater than occurs normally because of the low activities involved. Compensatory safety measures will be in place at all times when placing or removing the markers into the pipe casing collars and will ensure the markers will be recovered should the casing and collars be removed from the wells.

Alternatives to the Proposed Action

As required by section 102(2)(E) of NEPA (42 USC 4322(2)(E)), possible alternatives to the final action have been considered. The only alternative is to deny the exemption. This option would not produce a gain in protecting the human environment, and would force Core Laboratories, Inc. to only use the lower activity markers specified in the regulation. This may result in Core Laboratories, Inc. having to depend on less accurate pipe collar location measurements when logging oil and gas wells.

Alternative Use of Resources

No alternative use of resources was considered due to the reasons stated above.

Agencies and Persons Consulted

No other agencies or persons were contacted regarding this proposed action.

Identification of Sources Used

Letters from Core Laboratories, Inc. to U.S. Nuclear Regulatory Commission, Region IV, dated July 14, 1997 and February 4, 1998.

Finding of No Significant Impact

Based on the above environmental assessment, the Commission has concluded that environmental impacts that would be created by the proposed action would not have a significant effect on the quality of the human environment and does not warrant the preparation of an Environmental Impact Statement. Accordingly, it has been determined that a Finding of No Significant Impact is appropriate.

The licensee's letters dated July 14, 1997 and February 4, 1998, are available for inspection and copying for a fee in the Region IV Public Document Room, 611 Ryan Plaza Drive, Suite 400, Arlington, TX 76011-8064. The documents may also be viewed in the Agency-wide Documents Access and Management System (ADAMS) located on the NRC web site at www.nrc.gov.

Opportunity for a Hearing

Any person whose interest may be affected by the issuance of this action may file a request for a hearing. Any request for hearing must be filed with the Office of the Secretary, U.S. Nuclear Regulatory Commission, Washington, DC 20555, within 30 days of the publication of this notice in the Federal Register; be served on the NRC staff (Executive Director for Operations, One White Flint North, 11555 Rockville Pike, Rockville, Maryland 20852), and on the licensee (Core Laboratories, Inc., 9830 Rosprim, Houston, TX 77040); and must comply with the requirements for requesting a hearing set forth in the Commission's regulations, 10 CFR part 2, subpart L, “Information Hearing Procedures for Adjudications in Materials Licensing Proceedings.”

These requirements, which the request must address in detail, are:

1. The interest of the requestor in the proceeding;

2. How that interest may be affected by the results of the proceeding (including the reasons why the requestor should be permitted a hearing);

3. The requestor's areas of concern about the licensing activity that is the subject matter of the proceeding; and

4. The circumstances establishing that the request for hearing is timely—that is, filed within 30 days of the date of this notice.

In addressing how the requestor's interest may be affected by the proceeding, the request should describe the nature of the requestor's right under the Atomic Energy Act of 1954, as amended, to be made a party to the proceeding; the nature and extent of the requestor's property, financial, or other (i.e., health, safety) interest in the proceeding; and the possible effect of any order that may be entered in the proceeding upon the requestor's interest.

Dated at Rockville, Maryland, this 29th day of January, 2002.
For the Nuclear Regulatory Commission.
John W. N. Hickey,
Chief, Material Safety and Inspection Branch, Division of Industrial and Medical Nuclear Safety, Office of Nuclear Material Safety and Safeguards.

[FR Doc. 02-2734 Filed 2-4-02; 8:45 am]

BILLING CODE 7590-01-P